DEPARTMENT OF ENERGY

Federal Energy Regulatory Commission

[Docket No. CP99-580-002]

Southern LNG Inc.; Notice of Site Visit

November 22, 2000.

On December 6, 2000, staff from the Office Energy Projects (OEP) will conduct a pre-certification site visit of the proposed Sendout Modification Project at Southern LNG Inc.'s (Southern LNG) existing liquefied natural gas import terminal on Elba Island near Savannah, Georgia. Representatives of Southern LNG will accompany the OEP staff.

All Interested parties may attend the site visit. Those planning to attend must provide their own transportation. For further information on attending the site visit, please contact the Commission's Office of External Affairs at (202) 208-0004.

David P. Boergers,
Secretary.

[FR Doc. 00-30593 Filed 11-30-00; 8:45 am]

BILLING CODE 6717-01-M